DEPARTMENT OF AGRICULTURE

Forest Service

Uinta-Wasatch-Cache National Forest and Ashley National Forest; Utah; High Uintas Wilderness Domestic Sheep Analysis

AGENCY: Forest Service, USDA.

ACTION: Notice of intent to prepare an environmental impact statement.

SUMMARY: In 2007, the Wasatch-Cache National Forest, now the Uinta-Wasatch-Cache National Forest (UWCNF), along with other forests in the Nation issued a number of decisions reissuing term grazing permits on range allotments using a provisional categorical exclusion (CE) authorized by Congress. In 2010, the United States Forest Service was sued for authorizing grazing on allotments using this CE authority. In December 2013, the Intermountain Region and the United States District Court for the District Court of Idaho agreed to the Range CE settlement agreement. This agreement stipulated that the UWCNF would issue a scoping notice by May 2014 on five domestic sheep allotments.

These were Gilbert Peak, Hessie Lake-Henry's Fork, Red Castle, East Fork Blacks Fork, and the Middle Fork Blacks Fork allotments. In reviewing the management of these domestic sheep allotments it became apparent that the effects of grazing had to be considered for both the north and south slope of the Uinta Mountains because sheep trailed from the north slope of the Uinta Mountains to the south slope for the summer grazing season. Therefore, the analysis was then extended to include the Painter Basin, Tungsten, Oweep, Ottoson Basin, and Fall Creek sheep allotments on the Ashley National Forest, which are some of the domestic sheep allotments on the south slope of the Uinta Mountains.

Since 2007, various species of terrestrial and aquatic animals as well as plants have been added to or removed from the Regional Forester's Sensitive Species (RFSS) list. The RFSS will be analyzed as part of the EIS.

In May of 2014, scoping was initiated for this project; at that time, it was anticipated that the project would be completed as an Environmental Assessment. Since then, it has become apparent that there is a potential for significant impacts and that an Environmental Impact Statement is needed. This project will evaluate the effects of continued domestic sheep grazing on these 10 allotments. These 10 sheep allotments located on the north and south slopes of the Uinta Mountains and are located in the Ashley or Uinta-Wasatch-Cache NFs.

DATES: Comments concerning the scope of the analysis must be received by December 31, 2015. The draft environmental impact statement is expected around November, 2016 and the final environmental impact statement is expected around October, 2017.

ADDRESSES: Send written comments to David Whittekiend, Uinta-Wasatch-Cache National Forest Supervisor at 857 West South Jordan Parkway, South Jordan, UT 84095. Comments may also be sent via email to comments-intermtn-ashley@fs.fed.us or comments-intermtn-uwc@fs.fed.us, or via facsimile to 801-253-8118.

FOR FURTHER INFORMATION CONTACT: Paul Cowley, Interdisciplinary Team Leader, at the Uinta-Wasatch Cache Supervisor's Office (telephone: 801-999-2177; email: pcowley@fs.fed.us).

Individuals who use telecommunication devices for the deaf (TDD) may call the Federal Information Relay Service (FIRS) at 1-800-877-8339 between 8 a.m. and 8 p.m., Eastern Time, Monday through Friday.

SUPPLEMENTARY INFORMATION:

Purpose and Need for Action

In response to the requirements of the 2013 settlement, the UWC is required to reassess the effects of domestic sheep grazing on the Gilbert Peak, Hessie Lake-Henry's Fork, Red Castle, East Fork Blacks Fork, and the Middle Fork Blacks Fork allotments. As such there is a need to respond to the requirements of the 2013 settlement. Since the Ashley NF neighbors those allotments to the south (Painter Basin, Tungsten, Oweep, Ottoson Basin, and Fall Creek), and domestic sheep utilize both the north and south slopes of the High Uintas, it was determined that an analysis of all 10 allotments was needed.

With the addition of new species to the RFSS,¹ the Forest Service must design and manage projects when they are initiated and implemented to account for impacts to those species.² As such there is a need to evaluate and better understand the impacts of sheep grazing on recently designated RFSS. There is also a need to better understand the effects of domestic sheep grazing on the surrounding physical environment and the social environment. The overall purpose of this project is to evaluate the effects of domestic sheep grazing in these allotments and determine the impacts on the physical and social aspects of the project area.

¹ RFSS are “those plant and animal species identified by a regional forester for which population viability is a concern . . .” (FSM 2670.5).

² Forest Service Manual 2670.32 required that the Forests “Avoid or minimize impacts to species whose viability has been identified as a concern.” The Forests are also required to “Analyze, if impacts cannot be avoided, the significance of potential adverse effects on the population or its habitat within the area of concern and on the species as a whole. (The line officer, with project approval authority, makes the decision to allow or disallow impact, but the decision must not result in loss of species viability or create significant trends toward federal listing.)”

Proposed Action

The Forest Service will evaluate the 10 sheep allotments on the UWC and Ashley NFs: Those allotments are Gilbert Peak, Hessie Lake-Henry's Fork, Red Castle, East Fork Blacks Fork, and the Middle Fork Blacks Fork on the UWCNF, and Painter Basin, Tungsten, Oweep, Ottoson Basin, and Fall Creek on the Ashley NF.

Based on current information both Forests are proposing to authorize grazing on five allotments on the UWCNF and five allotments on the Ashley NF. Livestock grazing would be authorized using Forest Plan direction to meet or move toward the desired conditions identified in the Forest Plans. The Forests are also proposing to continue to use the sheep driveway that allows for sheep that graze the listed allotments

The project will evaluate multiple resources for impacts to include range, wilderness, recreation, hydrology, wildlife, fisheries and aquatic organisms, plants, soils, as well as potential impacts to economics and society.

The project analysis area is located in Uinta County, Wyoming and Duchesne and Summit Counties, Utah on the Evanston-Mountain View and Duchesne/Roosevelt Ranger Districts. The project area is located approximately 40 miles north-northwest of Duchesne, Utah, and about 40 miles southeast of Evanston, Wyoming. The project area encompasses about 160,000 acres and is located in the Uinta Mountains on both the north and south facing slopes of the central ridgeline.

The Forest Service will begin the environmental analysis in 2015, and the project is anticipated to end in late 2017.

Possible Alternatives

At this time, there are two alternatives that are being considered. The first is the proposed action described above. The second is the “No-Action” alternative which would not authorize grazing on the allotments. During the course of the project analysis, it is possible additional alternatives will be analyzed that may result from public participation or from staff participation, or from both.

Responsible Official

There are two Responsible Officials for this project: The Uinta Wasatch Cache Forest Supervisor and the Ashley Forest Supervisor.

Nature of Decision To Be Made

The decision to be made includes whether or not sheep grazing will continue on these allotments, and whether or not a site specific Forest Plan amendment could be needed.

Preliminary Issues

Preliminary issues that have been identified include impacts to Rocky Mountain bighorn sheep, wilderness, socioeconomics, recreation, soils, hydrology, and vegetation. Additional issues may arise from the public during the comment process.

Scoping Process

Scoping for this project was initiated in May of 2014. At that time a scoping package was sent to interested parties, tribes, and organizations. The proposed action has not changed from that original scoping letter, with the exception that the Forests have decided to prepare an environmental impact statement instead of an environemental assessment.

This notice of intent initiates the scoping process, which guides the development of the environmental impact statement. Following this Notice of Intent, it is anticipated that a second scoping letter describing the nature of the project will be sent to interested parties and organziations in the fall of 2015. There will also be opportunities to comment when the draft EIS is released. Additionally, public meetings are being considered as well, and would occur after a scoping letter was sent out.

The Forest Service is looking for comments identifing issues or concerns with regards to sheep grazing on these allotments. Comments that clearly and concisely articulate a percieved problem, and how to find a solution to that problem are most helpful.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

November 20, 2015.
David C. Whittekiend,
Forest Supervisor, Uinta-Wasatch-Cache National Forest,
Dated: November 20, 2015.
John R. Erickson,
Forest Supervisor, Ashley National Forest.

[FR Doc. 2015-30371 Filed 11-30-15; 8:45 am]

BILLING CODE 3410-11-P